DEPARTMENT OF ENERGY

Federal Energy Regulatory Commission

[Docket No. CP01-5-003]

Algonquin Gas Transmission Company; Notice of Intent To Prepare an Environmental Assessment for the Proposed Everett Extension Project, Request for Comments on Environmental Issues, and Notice of a Public Scoping Meeting and Site Visit

March 19, 2003.

The staff of the Federal Energy Regulatory Commission (FERC or Commission) will prepare an environmental assessment (EA) that will discuss the environmental impacts of the proposed Everett Extension Project. On February 5, 2003, Algonquin Gas Transmission Company (AGT) filed an application to amend its Certificate of Public Convenience and Necessity for authorization to construct and operate facilities in Suffolk County, Massachusetts. This EA will be used by the Commission in its decision-making process to determine whether the project is in the public convenience and necessity. A decision whether an environmental impact statement is needed has not been made yet, and will be based on the comments and information received during the scoping process. Agencies listed in Appendix 3 are hereby asked to indicate whether they want to be cooperating agencies for preparing the EA.

The application, and other supplemental filings in this docket are available for viewing on the FERC Internet Web site (http://www.ferc.gov). Click on the “FERRIS” link, select “General Search” from the FERRIS menu, and follow the instructions, being sure to input the correct docket number (CP01-5-003).

If you are a landowner receiving this notice, you may be contacted by a pipeline company representative about the acquisition of an easement to construct, operate, and maintain the proposed facilities. The pipeline company would seek to negotiate a mutually acceptable agreement. However, if the project is approved by the Commission, that approval conveys with it the right of eminent domain and under certain circumstances the pipeline company could initiate condemnation proceedings in accordance with Florida law.

A fact sheet prepared by the FERC entitled “An Interstate Natural Gas Facility On My Land? What Do I Need To Know?” was attached to the project notice that AGT provided to landowners. This fact sheet addresses a number of typically asked questions, including the use of eminent domain and how to participate in the Commission's proceedings. It is available for viewing on the FERC Internet Web site (http://www.ferc.gov).

Summary of the Proposed Project

AGT would construct 6.64 miles of 24-inch-diameter pipeline, 0.31 miles of 8-inch-diameter pipeline, three meter stations, and appurtenant facilities. The proposal would extend the 24-inch-diameter Deer Island Lateral pipeline (approved on June 4, 2002, in Docket No. CP01-5-002, but unbuilt yet). The proposal would provide 110,000 dekatherms per day of firm transportation service. AGT requests final authorization for the proposed facilities by December 15, 2003, and would construct its facilities in 2004 during the summer and fall, so that it could place the facilities in service by June 1, 2005. The general locations of the project facilities are shown in Appendix 1.¹ If you are interested in obtaining detailed maps of a specific portion of the project, send in your request using the form in Appendix 4.

¹ The appendices referenced in this notice are not being printed in the Federal Register. Copies are available on the Commission's Web site at the “FERRIS” link or from the Commission's Public Reference and Files Maintenance Branch, 888 First Street, NE., Washington, DC 20426, or call (202) 502-8371. For instructions on connecting to FERRIS refer to the last page of this notice. Copies of the appendices were sent to all those receiving this notice in the mail.

Land Requirements for Construction

Construction of the Everett Extension Project would temporarily disturb a total of about 72.70 acres of land. This includes about 22.9 acres offshore and 36.2 acres onshore for the pipeline construction right-of-way (ROW), and 13.6 acres for extra workspace and contractor staging areas. The total land requirements for the permanent ROW would be about 14.14 acres, including 1.35 acres of land for operation of the new permanent aboveground facilities. The remaining 58.56 acres of land affected by construction would be restored and allowed to revert to its former use.

Approximately 3.86 miles of the pipeline would be built onshore, and 3.09 miles would be offshore. The offshore construction would include about 2.25 miles of horizontal directional drilling, and about 0.84 miles of shallow water dredging. The offshore disturbance would include about 8.67 acres for trench excavation and 14.22 acres for temporarily storing the side-cast trench spoil. AGT states that most (69%) of the proposed onshore route would not require AGT to obtain a ROW easement, since 60% of the route would be located within existing roads or utility ROW, and 9% would be on property owned by proposed customers. AGT would typically use a 50- to 75-foot-wide construction ROW. Temporary extra workspaces are often needed for waterbody, highway, and railroad crossings; additional topsoil storage; and pipe storage and equipment yards.

The EA Process

The National Environmental Policy Act (NEPA) requires the Commission to take into account the environmental impacts that could result from an action whenever it considers the issuance of a Certificate of Public Convenience and Necessity. NEPA also requires us ² to discover and address concerns the public may have about proposals. This is called “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

² “We”, “us”, and “our” refer to the environmental staff of the Office of Energy Projects (OEP).

The EA will discuss impacts that could occur as a result of the construction and operation of the proposed project under these general headings:

• Water resources.

• Wetlands.

• Fisheries and essential fish habitat.

• Vegetation and wildlife.

• Endangered and threatened species.

• Land use, recreation, and visual resources.

• Cultural resources.

• Socioeconomics.

• Geologic and soil resources.

• Air and noise quality.

• Reliability and safety.

• System or route alternatives.

Our independent analysis of the issues will be in the EA. The EA will be mailed to Federal, state, and local agencies, public interest groups, interested individuals, affected landowners, newspapers, libraries, and the Commission's official service list for this proceeding. A 45-day comment period will be allotted for review of the EA. We will consider all comments on the EA and revise the document, as necessary, before issuing a Final EA. The Final EA will include our responses to comments received and will be used by the Commission in its decision-making process to determine whether to approve the project.

To ensure your comments are considered, please carefully follow the instructions in the Public Participation and Scoping Meeting section of this Notice of Intent.

Currently Identified Environmental Issues

The EA will discuss impacts that could occur as a result of the construction and operation of the proposed project. We have already identified a number of issues that deserve attention based on a preliminary review of the proposed facilities, the environmental information provided by AGT, and early input from intervenors. Some of these issues are listed below. This list is preliminary and may be changed based on your comments and our analysis.

• Effect of construction on groundwater or surface water supplies;

• Potential failure of the HDD segments, or inadvertent releases of drilling lubricant or hazardous materials during the drilling activities;

• Extent and effects of turbidity and sedimentation that may result from pipeline trenching or directional drilling in shallow waters;

• Potential fuel spills from the pipelay barges and associated vessel traffic;

• Construction and operational effects on marine and estuarine habitats that support commercial or recreational fisheries;

• Potential effects to wildlife and fisheries, including essential fish habitat and other fishery resource of concern, and other biological resources of concern;

• Potential effects on federally endangered and threatened species including the piping plover, northern right whale, humpback whale, fin whale, loggerhead sea turtle, green sea turtle, hawksbill sea turtle, Kemp's ridley sea turtle, and leatherback sea turtle;

• Potential effects to onshore and offshore submerged cultural resources;

• Noise generated as a result of pipeline construction;

• Temporary disruption of local roadways and recreational trails during construction;

• Potential effect of the project on Logan Airport operations;

• Cumulative impacts and temporal loss of habitat function from additive effects of the proposed project with other projects, including natural gas pipelines and other utilities, which have been recently constructed or are proposed to be built in the same region;

• Public Safety in the vicinity of the proposed facilities.

Public Participation and Scoping Meeting

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of the Gas 2 Branch.

• Reference Docket No. CP01-5-003.

• Mail your comments so that they will be received in Washington, DC on or before April 18, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

If you do not want to send comments at this time but still want to remain on our mailing list, please return the Information Request (Appendix 4). If you do not return the Information Request, you will be taken off the mailing list.

In addition to or in lieu of sending written comments, we invite you to attend a public scoping meeting. The FERC will conduct this public meeting together with the Massachusetts Energy Facilities Siting Board, at the time and location listed below:

Time: Wednesday April 9, 2003, at 7 PM, Location: Curtis Guild Elementary School, 195 Leyden Street, East Boston, MA 02128.

The public meeting is designed to provide you with more detailed information and another opportunity to offer your comments on the proposed project. Prior to the start of the meeting, company representatives will be available to informally discuss the project. Interested groups and individuals are encouraged to attend the meeting and to present comments on the environmental issues they believe should be addressed in the EA. A transcript of the meeting will be made so that your comments will be accurately recorded.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see Appendix 2).³ Only intervenors have the right to seek rehearing of the Commission's decision.

³ Interventions may also be filed electronically via the Internet in lieu of paper. See the previous discussion on filing comments electronically.

Affected landowners and parties with environmental concerns may be granted intervenor status upon showing good cause by stating that they have a clear and direct interest in this proceeding which would not be adequately represented by any other parties. The deadline for requesting to be an intervenor is April 7, 2003, but you may still request consideration to be an intervenor after that, if you can demonstrate why you should be granted intervenor status. You do not need intervenor status to have your environmental comments considered.

Environmental Mailing List

This notice is being sent to individuals, organizations, and government entities interested in and/or potentially affected by the proposed project. It is also being sent to all identified potential ROW grantors. By this notice we are also asking governmental agencies, especially those in Appendix 3, to express their interest in becoming cooperating agencies for the preparation of the EA.

Additional Information

Additional information about the project is available from the Commission's Office of External Affairs, at 1-866-208-FERC, or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659, or at FERCOnlineSupport@ferc.gov. The FERRIS link on the FERC Internet Web site also provides access to the texts of formal documents issued by the Commission, such as orders, notices, and rulemakings.

Magalie R. Salas,
Secretary.

[FR Doc. 03-7209 Filed 3-25-03; 8:45 am]

BILLING CODE 6717-01-P